DEPARTMENT OF TRANSPORTATION

Federal Railroad Administration

Agency Request for Emergency Processing of Collection of Information by the Office of Management and Budget

AGENCY: Federal Railroad Administration (FRA), Department of Transportation (DOT).

ACTION: Notice.

SUMMARY: FRA hereby gives notice that it is seeking emergency approval processing from the Office of Management and Budget (OMB) under the Paperwork Reduction Act of 1995 (Pub. L. 104-13, 44 U.S.C. Chapter 35) for the information collection request (ICR) listed below. FRA requests that OMB authorize the collection of information identified below on or before March 31, 2006, for a period of 180 days after the date of issuance of this notice in the Federal Register. While pursuing the normal rulemaking process to permanently address operational practice deficiencies related to hand-operated main track switches in non-signaled territory, FRA is seeking emergency approval for this information collection because the safety of affected railroad employees and the general public will be seriously jeopardized if the requirements of Emergency Order No. 24 can not be enforced.

DATES: Comments must be received no later than March 29, 2006.

ADDRESSES: Submit written comments on any or all of the following proposed activities by mail to either: Mr. Robert Brogan, Office of Safety, Planning and Evaluation Division, RRS-21, Federal Railroad Administration, 1120 Vermont Ave., NW., Mail Stop 17, Washington, DC 20590, or Mr. Victor Angelo, Office of Support Systems, RAD-20, Federal Railroad Administration, 1120 Vermont Ave., NW., Mail Stop 35, Washington, DC 20590. Commenters requesting FRA to acknowledge receipt of their respective comments must include a self-addressed stamped postcard stating, “Comments on OMB control number 2130-0568.” Alternatively, comments may be transmitted via facsimile to (202) 493-6230 or (202) 493-6170, or E-mail to Mr. Brogan at robert.brogan@fra.dot.gov, or to Mr. Angelo at victor.angelo@fra.dot.gov. Please refer to the assigned OMB control number in any correspondence submitted.

FOR FURTHER INFORMATION CONTACT: Mr. Robert Brogan, Office of Planning and Evaluation Division, RRS-21, Federal Railroad Administration, 1120 Vermont Ave., NW., Mail Stop 17, Washington, DC 20590 (telephone: (202) 493-6292) or Victor Angelo, Office of Support Systems, RAD-20, Federal Railroad Administration, 1120 Vermont Ave., NW., Mail Stop 35, Washington, DC 20590 (telephone: (202) 493-6470). (These telephone numbers are not toll-free.)

SUPPLEMENTARY INFORMATION: Below is a brief summary of the currently approved information collection activities that FRA is submitting for clearance by OMB:

OMB Control Number: 2130-0568.

Title: FRA Emergency Order No. 24, Notice No. 1.

Type of Request: Emergency approval.

Affected Public: Businesses.

Form Number(s): N/A .

Abstract: Emergency Order No. 24—and its associated collection of information—is FRA's direct and proactive response to a series of train accidents that occurred throughout the country in 2005 caused by railroad workers improperly setting hand-operated main track switches in non-signaled territory. The collection of information under Emergency Order No. 24 is aimed at ensuring that railroads and their employees take prescribed extra safety measures to raise awareness and increase compliance regarding following proper operating rules and practices in setting and reversing hand-operated main track switches in non-signaled territory in order to prevent the type of human factor caused accidents and corresponding casualties that occurred in 2005.

Reporting Burden:

Emergency order item No. | Respondent universe | Total annual responses | Average time per response | Total annual burden hours | Total annual burden cost
(1) Instruction On Railroad Operating Rule—Operation of manual main track switches in non-signal territory | 685 Railroads; 100,000 employees | Already fulfilled | N/A | N/A | N/A.
—New Employees | 8,000 employees | 8,000 sessions | 60 minutes | 8,000 hours | $400,000.
—Instruction Records | 685 Railroads | 8,000 records | 2 minutes | 267 hours | $10,680.
(2) Hand-Operated Main Track Switches—Confirmation of Switch Position | 6,000 Dispatchers | 60,000 verbal confirmations | 30 seconds | 500 hours | $21,000.
—Review of SPAF by Train Dispatcher | 6,000 Dispatchers | 15,000 reviews | 10 seconds | 42 hours | $2,100.
(3) Switch Position Awareness Form (SPAF) | 100,000 employees | 20,000 forms | 3 minutes | 1,000 hours | $50,000.
(4) Job Briefings | 100,000 employees | 60,000 briefings | 1 minute | 1,000 hours | $50,000.
(5) Radio Communication—Crewmember communication with engineer | 100,000 employees | 60,000 verbal communications | 15 seconds | 250 hours | $12,500.
—Notation of Inoperable Radio on SPAF | 90,000 Crew members | 500 form entries | 5 seconds | 1 hour | $50.
(6) Operational Tests and Inspections | 685 Railroads | Burden Covered Under OMB No. 2130-0035 | Burden Covered Under OMB No. 2130-0035 | Burden Covered Under OMB No. 2130-0035 | Burden Covered Under OMB No. 2130-0035.
(7) Distribution of Emergency Order—Copies to New Employees | 685 Railroads; 8,000 Employees | 8,000 copies | 2 seconds | 4 hours | $160.
—Written Receipt and Acknowledgment of Copy | 685 Railroads; 8,000 Employees | 8,000 receipts + 8,000 records | 1 second + 1 second | 4 hours | $140.
(8) Relief—Petitions For Special Approval | 685 Railroads | 10 petitions | 60 minutes | 10 hours | $400.

Form Number(s): N/A.

Respondent Universe: 685 Railroads; 100,000 Railroad Employees.

Frequency of Submission: One-time; On occasion.

Total Responses: 255,510.

Total Annual Estimated Burden: 11,078 hours.

Status: Emergency Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on March 8, 2006.
D.J. Stadlter,
Director, Office of Budget, Federal Railroad Administration.

[FR Doc. E6-3695 Filed 3-14-06; 8:45 am]

BILLING CODE 4910-06-P